DEPARTMENT OF COMMERCE

International Trade Administration

United States Travel and Tourism Promotion Advisory Board

AGENCY: International Trade Administration, U.S. Department of Commerce

ACTION: Notice of open meeting.

Date: June 10, 2005.

Time: 9-11:30 a.m.

Place: Hotel George, 15 E Street, NW., Washington, DC 20001. Tel: (202) 347-4213.

SUMMARY: The United States Travel and Tourism Promotion Advisory Board (Board) will hold a Board meeting on June 10, 2005 at the Hotel George, 15 E Street, NW., Washington, DC 20001.

The Board will discuss the results of the international advertising and promotion campaign launched in the United Kingdom in 2004/2005, which sought to encourage individuals to travel to the United States for the express purpose of engaging in tourism. The meeting will be open to the public. Time will be permitted for public comment. To sign up for public comment, please contact Julie Heizer at least 24 hours before the start of the meeting.

Julie Heizer may be contacted at U.S. Department of Commerce, 1401 Constitution Avenue, NW., Room 5204, Washington, DC 20230; via fax at (202) 482-2887; or, via e-mail at promotion@tinet.ita.doc.gov.

Written comments concerning Board affairs are welcome anytime before or after the meeting. Written comments should be directed to Julie Heizer. Minutes will be available within 60 days of this meeting.

The Board is mandated by Public Law 108-7, Section 210. As directed by Public Law 108-7, Section 210, the Secretary of Commerce shall design, develop and implement an international advertising and promotional campaign, which seeks to encourage individuals to travel to the United States. The Board shall recommend to the Secretary of Commerce the appropriate coordinated activities for funding. This campaign shall be a multi-media effort that seeks to leverage the Federal dollars with contributions of cash and in-kind products unique to the travel and tourism industry. The Board was chartered in August of 2003 and will expire on August 8, 2005.

This meeting is physically accessible to people with disabilities. Requests for sign language interpretation or other auxiliary aids should be directed to OTTI.

Dated: May 26, 2005.
Julie P. Heizer,
Deputy Director, Industry Relations, Office of Travel and Tourism Industries.

[FR Doc. E5-2684 Filed 5-26-05; 8:45 am]

BILLING CODE 3510-DS-P